DEPARTMENT OF HOMELAND SECURITY

Coast Guard

33 CFR Parts 100, 147 and 165

[USCG-2009-0677]

District Eight Safety Zones and Special Local Regulations

AGENCY: Coast Guard, DHS.

ACTION: Notice of expired temporary rules issued.

SUMMARY: This document provides required notice of substantive rules issued by the Coast Guard and temporarily effective between May 2006 and January 2009, that expired before they could be published in the Federal Register. This notice lists safety zones and special local regulations issued in the Eighth Coast Guard District, all of very limited duration and for which timely publication in the Federal Register was not possible.

DATES: This document lists temporary Coast Guard rules that became effective and were terminated between May 15, 2006 and January 9, 2009.

ADDRESSES: Documents listed in this preamble under the USCG-200#-#### format are available for electronic viewing under their individual docket numbers at http://www.regulations.gov. All other document formats are available for viewing online under Notice USCG-2009-0677 at http://www.regulations.gov. These documents are also available for inspection or copying at the Docket Management Facility (M-30), U.S. Department of Transportation, West Building Ground Floor, Room W12-140, 1200 New Jersey Avenue, SE., Washington, DC 20590 between 9 a.m. and 5 p.m., Monday through Friday, except Federal Holidays.

FOR FURTHER INFORMATION CONTACT: For questions on this notice contact Yeoman First Class Denise Johnson, Office of Regulations and Administrative Law, telephone (202) 372-3862. For questions on viewing, or on submitting material to the docket, contact Ms. Angie Ames, Docket Operations, telephone 202-366-5115.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Special local regulations are issued to enhance the safety of participants and spectators at regattas and other marine events. Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these safety zones by Coast Guard officials' on-scene prior to any enforcement action. However, the Coast Guard, by law, must publish in the Federal Register notice of substantive rules adopted. To meet this obligation without imposing undue expense on the public, the Coast Guard is publishing a list of expired temporary regulations pertaining to the Eighth Coast Guard District, which is headquartered in New Orleans, Louisiana. Permanent rules are not included in this list because they are published in their entirety in the Federal Register. Temporary rules are also published in their entirety if sufficient time is available to do so before they are placed in effect or terminated. The temporary rules listed in this notice have been exempted from review under Executive Order 12866, Regulatory Planning and Review, because of their emergency nature, or limited scope and temporary effectiveness.

The following rules were placed in effect temporarily during the period between May 2006 and January 2009, unless otherwise indicated.

Dated: July 28,2009.
S.G. Venckus,
Chief, Office of Regulations and Administrative Law.

BILLING CODE 4910-15-P

[FR Doc. E9-18510 Filed 8-3-09; 8:45 am]

BILLING CODE 4910-15-C